DEPARTMENT OF HOMELAND SECURITY

Coast Guard

[Docket No. USCG-2009-0099]

Public Meeting and Comment Request on MARPOL Reception Facilities

AGENCY: Coast Guard, DHS.

ACTION: Notice of public meeting and request for comments.

SUMMARY: The U.S. Coast Guard is seeking comments and recommendations from the public for optimizing domestic International Convention for the Prevention of Pollution from Ships (MARPOL) port reception facilities and will conduct a public meeting on the subject on Thursday, March 12, 2009, at U.S. Coast Guard Headquarters, 2100 Second Street, SW., Washington, DC 20593. The purpose of the meeting is to assist and complement efforts by the Coast Guard's Chemical Transportation Advisory Committee (CTAC) on implementing MARPOL regulations with respect to providing adequate port/terminal MARPOL reception facilities.

DATES: The public meeting will take place on Thursday, March 12, 2009, from 8:30 a.m. to 11:30 a.m., Room 2415, U.S. Coast Guard Headquarters, 2100 Second Street, SW., Washington, DC 20593, to provide an opportunity for oral comments. Please note that the meeting may close early if all business is finished. Interested persons wishing to attend the meeting should notify the Coast Guard (see FOR FURTHER INFORMATION CONTACT) at least 24 hours in advance of the meeting (by 8:30 a.m., March 11, 2009) and include contact information and affiliation of attendee(s). Interested persons wishing to submit written comments for the record should notify the Coast Guard (see FOR FURTHER INFORMATION CONTACT) and send such written comments by close of business (COB), March 9, 2009 (see ADDRESSES).

ADDRESSES: You may submit comments identified by docket number USCG-2009-0099 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail David Condino, MARPOL COA Project Manager, telephone 202-372-1145, e-mail: david.a.condino@uscg.mil; or Commander Michael Roldan, telephone 202-372-1130, e-mail: luis.m.roldan@uscg.mil. If you have questions on viewing or submitting material to the docket, call Renee V. Wright, Program Manager, Docket Operations, telephone 202-366-9826.

SUPPLEMENTARY INFORMATION:

Public Participation and Request for Comments

We encourage you to submit comments and related material. All comments received will be posted, without change, to http://www.regulations.gov and will include any personal information you have provided.

Submitting comments: If you submit a comment, please include the docket number for this notice (USCG-2009-0099) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, select the Advanced Docket Search option on the right side of the screen, insert “USCG-2009-0099” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments, go to http://www.regulations.gov, select the Advanced Docket Search option on the right side of the screen, insert USCG-2009-0099 in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Information on Service for Individuals With Disabilities

For information on facilities or services for individuals with disabilities or to request special assistance at the public meeting, contact David Condino at the telephone number or e-mail address indicated under the FOR FURTHER INFORMATION CONTACT section of this notice.

Background and Purpose

The public is invited to learn about how wastes from ships are handled at our ports and terminals and to comment on how to improve the Coast Guard's efforts to implement MARPOL requirements to provide adequate reception facilities. The public, commercial interests, local, State, and Federal Agencies, Non-Governmental Organizations (NGOs), public interest groups, trade organizations, and all other interested parties are invited to attend the meeting. The proposed agenda for the meeting will include—

• Introduction and welcome by U.S. Coast Guard;

• A presentation on U.S. Port Reception Facilities and the regulatory framework for the Coast Guard's Certificate of Adequacy (COA) Program for implementing MARPOL regulations for reception facilities;

• Questions and answer period on the COA presentation.

• Presentation of public comments received by the Coast Guard for the record. Note: Interested Parties, having previously submitted written comments for the record, may wish to give an oral presentation summarizing their comments; and

• Oral comments from the public.

The Coast Guard is seeking comments from the general public on MARPOL reception facilities in the U.S. The Coast Guard is specifically interested in identifying all issues that impact implementation of MARPOL requirements for port reception facilities in the U.S. and in obtaining recommendations to address those issues. Issues include—

• Conflicts with other regulations;

• Disposal cost issues at ports/terminals;

• Requirement for lab analysis of wastes;

• Segregation of Annex V wastes;

• Impacts of MARPOL waste collection requirements on local/regional waste disposal capacity and infrastructure;

• Emerging opportunities for business development for reception facilities at ports/terminals; and

• Additional burden, if any, of adopting standardized Advance Notice Forms (ANF) and/or Waste Delivery Receipt (WDR) forms adopted by the International Maritime Organization.

Oral comments made at the meeting will be summarized. The summarized oral comments, along with any prepared comments delivered at the meeting, will be added to the docket number for this notice (USCG-2009-0099). Summarized comments made at the meeting, written comments received prior to the meeting, prepared comments delivered at the meeting, and other relevant documents presented, will be provided to the CTAC subcommittee on MARPOL at the CTAC meeting to be held later this year (see Federal Register notice, 73 FR 79496, Dec. 29, 2008, seeking public comments for optimizing MARPOL port reception facilities). Notice of the CTAC public meeting will be given at a later date.

Dated: February 23, 2009.
H. Hime,
Acting Director of Commercial Regulations and Standards.

[FR Doc. E9-4146 Filed 2-25-09; 8:45 am]

BILLING CODE 4910-15-P